DEPARTMENT OF ENERGY

Federal Energy Regulatory Commission

[Docket No. ER07-169-000; Docket No. ER07-170-000]

Ameren Energy Marketing Company, Ameren Energy, Inc.; Notice Allowing Post-Technical Conference Comments

March 13, 2007.

Pursuant to the December 26, 2006 order in this proceeding, Ameren Energy Marketing Co., 117 FERC ¶ 61,334 (2006), a staff technical conference was held on Tuesday, March 13, 2006 at the offices of the Federal Energy Regulatory Commission. The technical conference addressed issues related to potential affiliate abuse in the sale of ancillary services among Ameren affiliates.

Take notice that the Commission will accept post-technical conference comments. Initial comments are due no later than 5 p.m. Eastern Time on April 3, 2007. Reply comments are due no later than 5 p.m. Eastern Time on April 17, 2007.

For further information please contact Zeny Magos at (202) 502-8244 or e-mail zeny.magos@ferc.gov.

Philis J. Posey,
Acting Secretary.

[FR Doc. E7-4987 Filed 3-16-07; 8:45 am]

BILLING CODE 6717-01-P